DEPARTMENT OF ENERGY

Federal Energy Regulatory Commission

[Docket No. CP07-30-000]

Petal Gas Storage, L.L.C.; Notice of Application

December 14, 2006.

Take notice that on December 4, 2006, Petal Gas Storage, L.L.C (Petal), 1100 Louisiana Street, Houston, Texas, 77002, filed with the Federal Energy Regulatory Commission an abbreviated application pursuant to section 7(c) of the Natural Gas Act (NGA), as amended, and part 157 of the Commission's regulations for authorization to convert two existing salt caverns into natural gas storage caverns in Forrest County, Mississippi. The proposal (referred to as the Petal Cavern Conversions Project), consists of: (1) altering the configuration of the caverns to allow for natural gas storage (one currently stores natural gas liquids and one currently stores brine) and (2) constructing pipeline facilities necessary to connect the converted caverns with the existing Petal natural gas storage operations. The cavern conversions would add a total of 4.45 Bcf of storage capacity to Petals system, all as more fully set forth in the application which is on file with the Commission and open to public inspection. The filing may also be viewed on the Commission's Web site at http://www.ferc.gov using the “eLibrary” link. Enter the docket number excluding the last three digits in the docket number field to access the document. For assistance, please contact FERC Online Support at FERCOnlineSupport@ferc.gov or toll free at (866) 208-3676, or for TTY, contact (202) 502-8659.

Any questions regarding the application should be directed to Richard Porter, Petal Gas Storage, L.L.C, 1100 Louisiana Street, Houston, Texas, 77002, (telephone) (713) 381-2526, (fax) (713) 803-2534, rporter@eprod.com.

There are two ways to become involved in the Commission's review of this project. First, any person wishing to obtain legal status by becoming a party to the proceedings for this project should, on or before the comment date, file with the Federal Energy Regulatory Commission, 888 First Street, NE., Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

The Commission strongly encourages electronic filings of comments, protests, and interventions via the Internet in lieu of paper. See 18 CFR 385.2001(a)(1)(iii) and the instructions on the Commission's Web site (http://www.ferc.gov) under the “e-Filing” link.

Comment Date: 5 p.m. Eastern Time on January 4, 2007.

Magalie R. Salas,
Secretary.

[FR Doc. E6-21704 Filed 12-19-06; 8:45 am]

BILLING CODE 6717-01-P